DEPARTMENT OF TRANSPORTATION

Surface Transportation Board

[Docket No. FD 35839]

R.J. Corman Railroad Company/Texas Lines, LLC—Acquisition and Operation Exemption—Texas South-Eastern Railroad Company

R.J. Corman Railroad Company/Texas Lines, LLC (RJCD), a noncarrier, has filed a verified notice of exemption under 49 CFR 1150.31 to acquire from Texas South-Eastern Railroad Company and operate approximately 12 miles of track known as the Texas Southeastern Railroad (the Line) in Angelina County, Tex. The Line consists of: (1) Approximately two miles of mainline operating track in Diboll, Tex.; (2) some excepted connecting industrial spurs to shipper facilities; and (3) approximately 10 miles of adjoining excepted track, which is now used for rail car storage only and not for transportation purposes.

This transaction is related to a concurrently filed verified notice of exemption in R.J. Corman Railroad Group, LLC—Continuance in Control Exemption—R.J. Corman Railroad Company/Texas Lines, LLC, Docket No. FD 35840, in which R.J. Corman Railroad Group, LLC and R. J. Corman Railroad Company, LLC seek Board approval under 49 CFR 1180.2(d)(2) to continue in control of RJCD upon RJCD's becoming a Class III carrier.

RJCD certifies that its projected revenues upon consummation of the proposed transaction will not result in the creation of a Class I or Class II rail carrier and states that its projected annual revenues will not exceed $5 million.

RJCD states that it intends to consummate the proposed transaction on or before July 31, 2014. The earliest the transaction can be consummated is July 23, 2014, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions to stay must be filed no later than July 16, 2014 (at least 7 days before the exemption becomes effective).

An original and 10 copies of all pleadings, referring to Docket No. FD 35839, must be filed with the Surface Transportation Board, 395 E Street SW., Washington, DC 20423-0001. In addition, a copy of each pleading must be served on David R. Irvin, Moynahan, Irvin & Mooney, PSC, 110 North Main Street, Nicholasville, KY 40356.

Board decisions and notices are available on our Web site at WWW.STB.DOT.GOV.

Decided: July 3, 2014.
By the Board,
Rachel D. Campbell,
Director, Office of Proceedings.
Derrick A. Gardner,
Clearance Clerk.

[FR Doc. 2014-16024 Filed 7-8-14; 8:45 am]

BILLING CODE 4915-01-P